DEPARTMENT OF DEFENSE

Department of the Army

Performance Review Board Membership

AGENCY: Department of the Army, DoD.

ACTION: Notice.

SUMMARY: Notice is given of the names of members of a Performance Review Board for the Department of the Army.

DATES: Effective Date: November 19, 2009.

FOR FURTHER INFORMATION CONTACT: Elizabeth Shelley, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Ms. Stephanie Barna, Deputy General Counsel (Operations and Personnel), Office of the General Counsel.

2. Dr. Craig College, Deputy, Deputy Assistant Chief of Staff for Installation Management, Office of the Assistant Chief of Staff for Installation Management.

3. Ms. Kathryn Condon, Special Assistant to the Under Secretary of the Army, Office of the Under Secretary of the Army.

4. General Ann E. Dunwoody, Commanding General, United States Army Materiel Command.

5. Ms. Teresa Gerton, Deputy Chief of Staff for Resource Management, United States Army Materiel Command.

6. Mr. Jerry Hansen, Deputy Assistant Secretary of the Army (Strategic Infrastructure), Office of the Assistant Secretary of the Army (Installations and Environment).

7. Ms. Ellen Helmerson, Deputy Chief of Staff, G-1/4 (Personnel and Logistics), United States Army Training and Doctrine Command.

8. Mr. Thomas Lamont, Assistant Secretary of the Army (Manpower and Reserve Affairs), Office of the Secretary of the Army Manpower and Reserve Affairs.

9. Mr. Mark Lewis, Assistant Deputy Chief of Staff for Operations (G-3/5/7), Office of Deputy Chief of Staff for Operations.

10. Mr. Joseph McDade, Assistant Deputy Chief of Staff, G-1, Office of the Assistant G-1.

11. Ms. Joyce E. Morrow, Administrative Assistant to the Secretary of the Army, Office of the Secretary of the Army.

12. Major General Roger Nadeau, Commanding General, Army Test and Evaluation Command.

13. Mr. John Nerger, Executive Director/Director of Services, Assistant Chief of Staff for Installation Management, Installation Management Command.

14. Mr. Levator Norsworthy Jr., Deputy General Counsel (Acquisition)/Senior Deputy General Counsel, Office of the General Counsel.

15. Lieutenant General James H. Pillsbury, Deputy to the Commanding General, United States Army Material Command.

16. Mr. Dean G. Popps, Principal Deputy Assistant Secretary of the Army (Acquisition, Logistics and Technology)/Director for Iraq Reconstruction and Program Management, Office of the Assistant Secretary of the Army Acquisition, Logistics and Technology).

17. Mr. Danny Pummill, Director of Operations, Office of the Assistant Secretary of the Army (Manpower and Reserve Affairs).

18. Mr. Wimpy Pybus, Deputy Assistant Secretary of the Army for Integrated Logistics Support, Office of the Assistant Secretary of the Army (Acquisition, Logistics, and Technology).

19. Major General Don Riley, Deputy to the Commanding General, United States Army Corps of Engineers.

20. Mr. Craig Schmauder, Deputy General Counsel (Installation, Environment and Civil Works), Office of the General Counsel.

21. Mr. Karl F. Schneider, Principal Deputy to the Assistant Secretary of the Army (Manpower and Reserve Affairs), Office of Assistant Secretary of the Army, Manpower and Reserve Affairs.

22. Mr. Larry Stubblefield, Deputy Administrative Assistant to the Secretary of the Army/Director, Shared Services, Office of the Administrative Assistant to the Secretary of the Army.

23. Lieutenant General Robert L. Van Antwerp Jr., Commanding General, United States Army Corps of Engineers.

Brenda S. Bowen,
Army Federal Register Liaison Officer.

[FR Doc. E9-27788 Filed 11-18-09; 8:45 am]

BILLING CODE 3710-08-P